DEPARTMENT OF TRANSPORTATION

Federal Aviation Administration

14 CFR Part 39

[Docket No. FAA-2007-27150; Directorate Identifier 2006-NM-288-AD; Amendment 39-14929; AD 2007-03-18]

RIN 2120-AA64

Airworthiness Directives; Airbus Model A300 and A300-600 Airplanes

AGENCY: Federal Aviation Administration (FAA), Department of Transportation (DOT).

ACTION: Final rule; request for comments.

SUMMARY: We are adopting a new airworthiness directive (AD) for the products listed above. This AD results from mandatory continuing airworthiness information (MCAI) issued by an aviation authority of another country to identify and correct an unsafe condition on an aviation product. The MCAI describes the unsafe condition as cracking in the wing main landing gear (MLG) rib 5 aft bearing forward lug, which could affect the structural integrity of the MLG attachment. This AD requires actions that are intended to address the unsafe condition described in the MCAI.

DATES: This AD becomes effective February 23, 2007.

The Director of the Federal Register approved the incorporation by reference of certain documents listed in this AD as of February 23, 2007.

We must receive comments on this AD by March 12, 2007.

ADDRESSES: You may send comments by any of the following methods:

• DOT Docket Web Site: Go to http://dms.dot.gov and follow the instructions for sending your comments electronically.

• Fax: (202) 493-2251.

• Mail: Docket Management Facility, U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: http://www.regulations.gov. Follow the instructions for submitting comments.

Examining the AD Docket

You may examine the AD docket on the Internet at http://dms.dot.gov; or in person at the Docket Management Facility between 9 a.m. and 5 p.m., Monday through Friday, except Federal holidays. The AD docket contains this AD, the regulatory evaluation, any comments received, and other information. The street address for the Docket Office (telephone (800) 647-5227) is in the ADDRESSES section. Comments will be available in the AD docket shortly after receipt.

FOR FURTHER INFORMATION CONTACT: Tom Stafford, Aerospace Engineer, International Branch, ANM-116, FAA, Transport Airplane Directorate, 1601 Lind Avenue, SW., Renton, Washington 98057-3356; telephone (425) 227-1622; fax (425) 227-1149.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

Discussion

The European Aviation Safety Agency (EASA), which is the Technical Agent for the Member States of the European Community, has issued Emergency Airworthiness Directive 2006-0372-E, dated December 14, 2006 (referred to after this as “the MCAI”), to correct an unsafe condition for the specified products. The MCAI states that during routine visual inspection, a crack has been found in the wing MLG (main landing gear) rib 5 aft bearing forward lug on two Model A310 in-service aircraft. Laboratory examination of one of the cracked ribs confirmed that the crack is due to the presence of pitting corrosion in the forward lug holes. Also, on both aircraft medium to heavy corrosion was found in the forward lugs on the opposite wing after removal of the bushings. Similar to Model A310 aircraft, Model A300 and A300-600 aircraft are also affected by this situation, which, if not detected, could affect the structural integrity of the MLG attachment. The aim of the MCAI is to mandate repetitive detailed visual inspections of wing MLG rib 5 aft bearing forward lugs for detection of through cracks and corrective action (contacting Airbus and replacing cracked lugs if necessary). The MCAI notes that for Airbus Model A310 aircraft, refer to EASA Emergency Airworthiness Directive 2006-0335-E, issued November 3, 2006. In response to that MCAI, on December 7, 2006, we issued AD 2007-02-09, amendment 39-14896 (72 FR 2612, January 22, 2007), to address this unsafe condition on Model A310 airplanes. You may obtain further information by examining the MCAI in the AD docket.

Relevant Service Information

Airbus has issued Service Bulletins A300-57A0248, including Appendix 01, dated December 12, 2006; and A300-57A6105, including Appendix 01, dated December 12, 2006. The actions described in this service information are intended to correct the unsafe condition identified in the MCAI.

FAA's Determination and Requirements of This AD

This product has been approved by the aviation authority of another country, and is approved for operation in the United States. Pursuant to our bilateral agreement with this State of Design Authority, they have notified us of the unsafe condition described in the MCAI and service information referenced above. We are issuing this AD because we evaluated all the information provided by the State of Design Authority and determined the unsafe condition exists and is likely to exist or develop on other products of the same type design.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are described in a separate paragraph of the AD. These requirements take precedence over the actions copied from the MCAI.

FAA's Determination of the Effective Date

An unsafe condition exists that requires the immediate adoption of this AD. The FAA has found that the risk to the flying public justifies waiving notice and comment prior to adoption of this rule because following routine visual inspection, two through cracks have been found in the wing MLG rib 5 lug on a Model A310 airplane. The cracks were extended through the entire thickness of the forward lug. Failure of this attachment could result in gear collapse upon landing. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2007-27150; Directorate Identifier 2006-NM-288-AD” at the beginning of your comments. We specifically invite comments on the overall regulatory, economic, environmental, and energy aspects of this AD. We will consider all comments received by the closing date and may amend this AD because of those comments.

We will post all comments we receive, without change, to http://dms.dot.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD would not have federalism implications under Executive Order 13132. This AD would not have a substantial direct effect on the States, on the relationship between the national Government and the States, or on the distribution of power and responsibilities among the various levels of government.

For the reasons discussed above, I certify this regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-03-18 Airbus: Amendment 39-14929. Docket No. FAA-2007-27150; Directorate Identifier 2006-NM-288-AD.

Effective Date

(a) This airworthiness directive (AD) becomes effective February 23, 2007.

Affected ADs

(b) None.

Applicability

(c) This AD applies to Airbus Model A300 and A300-600 airplanes; certificated in any category, all certified models, all serial numbers except for those where LH (left-hand) and RH (right-hand) wing MLG (main landing gear) rib 5 forward lugs have been repaired by installation of oversized interference fit bushings as per drawing R57240221.

Reason

(d) The MCAI states that during routine visual inspection, a crack has been found in the wing MLG rib 5 aft bearing forward lug on two Model A310 in-service aircraft. Laboratory examination of one of the cracked ribs confirmed that the crack is due to the presence of pitting corrosion in the forward lug holes. Also, on both aircraft medium to heavy corrosion was found in the forward lugs on the opposite wing after removal of the bushings. On December 7, 2006, we issued AD 2007-02-09, amendment 39-14896 (72 FR 2612, January 22, 2007), to address this unsafe condition on Model A310 airplanes. Similar to Model A310 aircraft, the Model A300 and A300-600 aircraft are also affected by this situation, which, if not detected, could affect the structural integrity of the MLG attachment. The aim of the MCAI is to mandate repetitive detailed visual inspections of wing MLG rib 5 aft bearing forward lugs for detection of through cracks and corrective action (contacting Airbus and replacing cracked lugs if necessary). The MCAI notes that for Airbus Model A310 aircraft, refer to EASA Emergency Airworthiness Directive 2006-0335-E, issued November 3, 2006.

Actions and Compliance

(e) Unless already done, do the following actions specified in paragraphs (e)(1), (e)(2), and (e)(3) of this AD in accordance with instructions defined in Airbus Service Bulletin A300-57A6105, dated December 12, 2006; or A300-57A0248, dated December 12, 2006; as applicable.

(1) Before the accumulation of 12,000 total flight cycles since new or since the most recent MLG rib 5 replacement if applicable, or within 10 days after the effective date of this AD, whichever occurs latest: Perform a detailed visual inspection of the LH and RH wing MLG rib 5 aft bearing forward lugs.

(2) If a crack is detected at the LH and/or RH aft bearing forward lug, contact Airbus immediately and proceed with the replacement before further flight.

(3) Repeat the inspection at intervals not to exceed 100 flight cycles.

Other FAA AD Provisions

(f) The following provisions also apply to this AD:

(1) Alternative Methods of Compliance (AMOCs): The Manager, International Branch, ANM-116, Transport Airplane Directorate, FAA, ATTN: Tom Stafford, 1601 Lind Avenue, SW., Renton, Washington 98057-3356, has the authority to approve AMOCs for this AD, if requested using the procedures found in 14 CFR 39.19. Before using any AMOC approved in accordance with § 39.19 on any airplane to which the AMOC applies, notify the appropriate principal inspector in the FAA Flight Standards Certificate Holding District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

(4) Special Flight Permits: We are not allowing special flight permits, as described in Section 21.197 and Section 21.199 of the Federal Aviation Regulations (14 CFR 21.197 and 21.199).

Related Information

(g) Refer to MCAI European Aviation Safety Agency (EASA) Emergency Airworthiness Directive 2006-0372-E, dated December 14, 2006; and Airbus Service Bulletins A300-57A0248 and A300-57A6105, both including Appendix 01, both dated December 12, 2006, for related information.

Material Incorporated by Reference

(h) You must use Airbus Service Bulletin A300-57A0248, excluding Appendix 01, dated December 12, 2006; or Airbus Service Bulletin A300-57A6105, excluding Appendix 01, dated December 12, 2006; as applicable; to do the actions required by this AD, unless the AD specifies otherwise.

(1) The Director of the Federal Register approved the incorporation by reference of this service information under 5 U.S.C. 552(a) and 1 CFR part 51.

(2) For service information identified in this AD, contact Airbus, 1 Rond Point Maurice Bellonte, 31707 Blagnac Cedex, France.

(3) You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on January 26, 2007.
Ali Bahrami,
Manager, Transport Airplane Directorate, Aircraft Certification Service.

[FR Doc. E7-1883 Filed 2-7-07; 8:45 am]

BILLING CODE 4910-13-P